DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for the Metropolitan Transportation Authority New York City Transit (MTA NYCT) Canarsie Tunnel Project Revised Alternative Service Plan. The purpose of this notice is to announce publicly the environmental decisions by FTA on the subject project and to activate the limitation on any claims that may challenge these final environmental actions.

DATES: By this notice, FTA is advising the public of final agency actions subject to 23 U.S.C. 139(l). A claim seeking judicial review of FTA actions announced herein for the listed public transportation project will be barred unless the claim is filed on or before December 19, 2019.

FOR FURTHER INFORMATION CONTACT: Nancy-Ellen Zusman, Assistant Chief Counsel, Office of Chief Counsel, (312) 353-2577 or Juliet Bochicchio, Environmental Protection Specialist, Office of Environmental Programs, (202) 366-9348. FTA is located at 1200 New Jersey Avenue SE, Washington, DC 20590. Office hours are from 9:00 a.m. to 5:00 p.m., Monday through Friday, except Federal holidays.

SUPPLEMENTARY INFORMATION: Notice is hereby given that FTA has taken final agency actions by issuing certain approvals for the public transportation project listed below. The actions on the project, as well as the laws under which such actions were taken, are described in the documentation issued in connection with the project to comply with the National Environmental Policy Act (NEPA) and in other documents in the FTA environmental project file for the project. Interested parties may contact either the project sponsor or the relevant FTA Regional Office for more information. Contact information for FTA's Regional Offices may be found at https://www.fta.dot.gov.

This notice applies to all FTA decisions on the listed project as of the issuance date of this notice and all laws under which such actions were taken, including, but not limited to, NEPA [42 U.S.C. 4321-4375], Section 4(f) requirements [23 U.S.C. 138, 49 U.S.C. 303], Section 106 of the National Historic Preservation Act [54 U.S.C. 306108], and the Clean Air Act [42 U.S.C. 7401-7671q]. This notice does not, however, alter or extend the limitation period for challenges of project decisions subject to previous notices published in the Federal Register. The project and actions that are the subject of this notice follow: Project name and location: The Metropolitan Transportation Authority New York City Transit Revised Alternative Service Plan, in New York City, New York. Project Sponsor: Metropolitan Transportation Authority New York City Transit (MTA NYCT). Project description: The project proposes to implement a Revised Alternative Service Plan, Revised Construction Means and Methods, and Extended Work Hours for the Canarsie Tunnel Project in New York City, New York. Previously, in 2015, FTA issued categorical exclusions (CE), for the Canarsie Tunnel Restoration and Resiliency Projects, in 2016, FTA issued a CE for the Canarsie Tunnel Core Capacity and State of Good Repair Project, and in 2018, FTA issued a Finding of No Significant Impact (FONSI) for the Canarsie Tunnel Alternative Service Plan. The Core Capacity, State of Good Repair, and Alternative Service Plan Projects included full-tunnel closure and partial-tunnel closure construction options as well as preliminary concepts of MTA NYCT's Alternative Service Plans for displaced transit riders. MTA NYCT submitted a draft Re-Evaluation for the proposal to FTA on March 1, 2019. MTA NYCT then submitted to FTA for approval a final Re-Evaluation on April 17, 2019. Because the Revised Alternative Service Plan as outlined in this Re-Evaluation is consistent with previously approved CEs and FONSI, FTA affirms the previous environmental decision documents associated with the Canarsie Tunnel Project remain valid, the proposed changes will not result in significant environment impacts, and no supplemental environmental review is necessary for the proposed changes.

Final agency action: MTA NYCT's Environmental Re-evaluation for the Canarsie Tunnel Project: Revised Alternative Service Plan, Revised Construction Means and Methods, and Extended Work Hours, dated April 19, 2019.

Supporting Documentation: MTA NYCT's Environmental Re-evaluation Consultation Form for the Canarsie Tunnel Project: Revised Alternative Service Plan, Revised Construction Means and Methods, and Extended Work Hours, New York City, New York, dated April 17, 2019.

Authority: 23 U.S.C. 139(l)(1).

Elizabeth S. Riklin,
Deputy Associate Administrator for Planning and Environment.

[FR Doc. 2019-15539 Filed 7-19-19; 8:45 am]

BILLING CODE 4910-57-P